DEPARTMENT OF HOUSING AND URBAN DEVELOPMENT

[Docket No. FR-5907-N-44]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov .

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following addresses: AGRICULTURE: Ms. Debra Kerr, Department of Agriculture, OPPM, Property Management Division, Agriculture South Building, 300 7th Street SW., Washington, DC 20024, (202) 720-8873; AIR FORCE: Mr. Robert E. Moriarty, P.E., AFCEC/CI, 2261 Hughes Avenue, Ste. 155, JBSA Lackland TX 78236-9853, (315) 225-7384; COE: Ms. Brenda Johnson-Turner, HQUSACE/CEMP-CR, 441 G Street NW., Washington, DC 20314, (202) 761-7238; ENERGY: Mr. David Steinau, Department of Energy, Office of Asset Management (MA-50), 1000 Independence Ave. SW., Washington, DC 20585, (202) 287-1503; GSA: Mr. Flavio Peres, General Services Administration, Office of Real Property Utilization and Disposal, 1800 F Street NW., Room 7040 Washington, DC 20405, (202) 501-0084; NAVY: Ms. Nikki Hunt, Department of the Navy, Asset Management Division, Naval Facilities Engineering Command, Washington Navy Yard, 1330 Patterson Ave. SW., Suite 1000, Washington, DC 20374; (202) 685-9426; (These are not toll-free numbers).

Dated: October 20, 2016.
Brian P. Fitzmaurice,
Director, Division of Community Assistance, Office of Special Needs Assistance; Assistance Programs.

TITLE V, FEDERAL SURPLUS PROPERTY PROGRAM FEDERAL REGISTER REPORT FOR 10/28/2016

Suitable/Available Properties

Building

Florida

3745C Naval Air Station

Pensacola 198 Navy Exchange Rd. Corry Station

Annex—NASP

Pensacola FL 32508

Landholding Agency: Navy

Property Number: 77201640002

Status: Unutilized

Comments: Off-site removal only; 216 sq. ft.; retail; roof leaks; rusted support members; mold; 12+ months vacant; significant repairs needed; contact Navy for more information about condition of property

Mississippi

ARS Farm Storage Building

CPAIS ID 640200B064; RPUID: 03.837

Jamie Whitten Delta States Research Center

Washington County MS

Landholding Agency: Agriculture

Property Number: 15201640001

Status: Excess

Directions: Leased Land: Section 1, Township 18N, Range 7W; contact Agriculture for accessibility/removal requirements & other conditions on property

Comments: Off-site removal only; 200 sq. ft.; 1+ month vacant; extremely poor conditions; interior ceiling stained; plywood flooring;

ARS Storage Building

CPAIS ID 640200B062; RPUID: 03.825

Jamie Whitten Delta States Research Center

Washington County MS

Landholding Agency: Agriculture

Property Number: 15201640003

Status: Excess

Directions: Leased Land: NW Quarter of Section 1 Township 18, Range 7W; contact Agriculture for accessibility/removal requirements and more information about the conditions of the property

Comments: Off-site removal only; 840 sq. ft., 1+ month vacant; fair/poor conditions; modular trailer;

Texas

Former Tyler Naval Reserve Center; 1818 North Confederate Street Tyler TX 75701

Landholding Agency: GSA

Property Number: 54201640001

Status: Surplus

GSA Number: 7-G-TX-0984-AD

Directions: Office Building 1 (8,401 sf); Office Building 2 (3,000 sf); 2 Storage Sheds (300 sf each)

Comments: Office use; 12+ months vacant; good/fair conditions; contact GSA for more details on a specific property listed above

Unsuitable Properties

Building

California

Shop/Storage/Maintenance Facility Lake Isabella Lake Isabella CA

Landholding Agency: COE

Property Number: 31201640003

Status: Unutilized

Comments: Public access denied and no alternative method to gain access without compromising national security

Reasons: Secured Area

Administration Building

Lake Isabella

Lake Isabella CA

Landholding Agency: COE

Property Number: 31201640004

Status: Unutilized

Comments: Public access denied and no alternative method to gain access without compromising national security

Reasons: Secured Area

Florida

1523; Naval Air Station Pensacola 362 Jordan Rd.

Pensacola FL 32508

Landholding Agency: Navy

Property Number: 77201640001

Status: Unutilized

Comments: Public access denied and no alternative method to gain access without compromising national security

Reasons: Secured Area

New York

Building 904, Electrician Work Area; Brookhaven National Lab

Upton NY 11973

Landholding Agency: Energy

Property Number: 41201640001

Status: Excess

Comments: Research facilities on site where public access denied and no alternative method to gain access without compromising national security

Reasons: Secured Area

North Dakota

Sentinel Butle Radio Building

Sentinel Butle

Sentinel Butle ND 58654

Landholding Agency: Agriculture

Property Number: 15201640004

Status: Unutilized

Comments: Documented deficiencies: significant roof damage; clear threat to physical safety

Reasons: Extensive deterioration

Oklahoma

SWT-Keystone Lake

23115 West Wekiwa Rd.

Sand Springs OK 74063

Landholding Agency: COE

Property Number: 31201640001

Status: Unutilized

Comments: Documented deficiencies: severe water damage; numerous holes in interior walls, cracks, & vandalism; severely infested by pest; clear threat to physical safety

Reasons: Extensive deterioration

Arcadia Lake

Edmond Park

Edmond OK 73034

Landholding Agency: COE

Property Number: 31201640006

Status: Unutilized

Comments: Documented deficiencies: high concentrations of mold; severe mold damage throughout entire property due to consistent water leakage; friable asbestos present as well; clear threat to physical safety

Reasons: Extensive deterioration; Contamination

Oregon

Wildlife Area Vault Toilet

Ferry Rd.

Umatilla OR 97882

Landholding Agency: COE

Property Number: 31201640005

Status: Underutilized

Comments: Documented deficiencies: old dilapidated floor, wall, roof; clear threat to physical safety

Reasons: Extensive deterioration

Texas

Laughlin Air Force,

2.66 acres of improved land

78843 Mitchell Blvd.

Del Rio TX 78843

Landholding Agency: Air Force

Property Number: 18201640001

Status: Unutilized

Comments: Public access denied and no alternative method to gain access without compromising national security

Reasons: Secured Area

Sam Rayburn Lake

18981 FM 1751

Pineland TX 75930

Landholding Agency: COE

Property Number: 31201640002

Status: Unutilized

Comments: Documented deficiencies: structurally unsound; masonry exterior separated from wooden substructure; wooden sill plates & base of studs in wall deteriorated; clear threat to physical safety

Reasons: Extensive deterioration

Virginia

Structure R22 on JEBLC-FS

Special Area

JEBLCFS

Wallops Island VA

Landholding Agency: Navy

Property Number: 77201640003

Status: Unutilized

Comments: Public access denied and no alternative method to gain access without compromising national security

Reasons: Secured Area

[FR Doc. 2016-25773 Filed 10-27-16; 8:45 am]

BILLING CODE 4210-67-P